DEPARTMENT OF HEALTH AND HUMAN SERVICES

Centers for Disease Control and Prevention

[30Day-12-0493]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call 404-639-7570 and send comments to Kimberly Lane, CDC Reports Clearance Officer, 1600 Clifton Road, MS-D74, Atlanta, GA 30333 or send an email to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

2013 and 2015 National Youth Risk Behavior Surveys (YRBS)(OMB No. 0920-0493)—Reinstatement with change—National Center for HIV/AIDS, Viral Hepatitis, STD, and TB Prevention (NCHHSTP), Centers for Disease Control and Prevention (CDC).

Background and Brief Description

The purpose of this request is to obtain OMB approval to reinstate with change, the data collection for the National Youth Risk Behavior Survey (YRBS), a school-based survey that has been conducted biennially since 1991. OMB approval for the 2009 YRBS and 2011 YRBS expired November 30, 2011 (OMB no. 0920-0493). CDC seeks a three-year approval to conduct the YRBS in Spring 2013 and Spring 2015. Minor changes incorporated into this reinstatement request include: an updated title for the information collection to accurately reflect the years in which the survey will be conducted, minor changes to the data collection instrument, and a minor increase in the burden estimate.

The YRBS assesses priority health risk behaviors related to the major preventable causes of mortality, morbidity, and social problems among both youth and young adults in the United States. Data on health risk behaviors of adolescents are the focus of approximately 65 national health objectives in Healthy People 2020, an initiative of the U.S. Department of Health and Human Services (HHS). The YRBS provides data to measure 20 of the health objectives and 1 of the Leading Health Indicators established by Healthy People 2020. In addition, the YRBS can identify racial and ethnic disparities in health risk behaviors. No other national source of data measures as many of the Healthy People 2020 objectives addressing adolescent health risk behaviors as the YRBS. The data also will have significant implications for policy and program development for school health programs nationwide.

In Spring 2013 and Spring 2015, the YRBS will be conducted among nationally representative samples of students attending public and private schools in grades 9-12. Information supporting the YRBS also will be collected from state, district, and school-level administrators and teachers. The table below reports the number of respondents annualized over the 3-year project period.

There are no costs to respondents except their time. The total estimated annualized burden hours are 7,822.

Estimated Annualized Burden Hours
Type of respondent | Form name | Number of respondents | Number of responses per respondent | Average burden per response (in hours)
State Administrators | State-level Recruitment Script for the Youth Risk Behavior Survey | 17 | 1 | 30/60
District Administrators | District-level Recruitment Script for the Youth Risk Behavior Survey | 80 | 1 | 30/60
School Administrators | School-level Recruitment Script for the Youth Risk Behavior Survey | 133 | 1 | 30/60
Teachers | Data Collection Checklist for the Youth Risk Behavior Survey | 435 | 1 | 15/60
Students | Youth Risk Behavior Survey | 10,129 | 1 | 45/60

Kimberly S. Lane,
Deputy Director, Office of Science Integrity, Office of the Associate Director for Science, Office of the Director, Centers for Disease Control and Prevention.

[FR Doc. 2012-16912 Filed 7-10-12; 8:45 am]

BILLING CODE 4163-18-P